FEDERAL COMMUNICATIONS COMMISSION

47 CFR Parts 1, 73, 74, and 76

[MB Docket No. 24-626; FCC 24-126; FR ID 280968]

Broadcast Station Rule Updates

AGENCY: Federal Communications Commission.

ACTION: Proposed rule.

SUMMARY: In this document, the Federal Communications Commission (Commission or FCC) seeks comment on several proposed updates to broadcast radio and TV rules to better reflect current application processing requirements, clarify ambiguity, and remove references to outdated procedures and legacy filing systems. Such action ensures that the Commission's rules are accurate, reducing potential confusion among the public, applicants, licensees, and practitioners, and alleviating unnecessary burdens.

DATES: Comments due on or before April 23, 2025; reply comments due on or before May 8, 2025.

ADDRESSES: Pursuant to §§ 1.415 and 1.419, interested parties may file comments and reply comments on or before the dates indicated on the first page of this document. Comments may be filed using the Commission's Electronic Comment Filing System (ECFS). See Electronic Filing of Documents in Rulemaking Proceedings, 63 FR 24121 (1998). You may submit comments, identified by MB Docket No. 24-626, by any of the following methods:

• Electronic Filers: Comments may be filed electronically using the internet by accessing the ECFS: https://apps.fcc.gov/ecfs/.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People With Disabilities: To request materials in accessible formats for people with disabilities (braille, large print, electronic files, audio format), send an email to fcc504@fcc.gov or call the Consumer & Governmental Affairs Bureau at 202-418-0530 (voice), 202-418-0432 (TTY).

FOR FURTHER INFORMATION CONTACT: For additional information on this proceeding, contact Ariane Rangel, Audio Division, Media Bureau at Ariane.Rangel@fcc.gov or (202) 418-4036, or Lisa Scanlan, Audio Division, Media Bureau at Lisa.Scanlan@fcc.gov or (202) 418-2704.

SUPPLEMENTARY INFORMATION: This is a summary of the Commission's Notice of Proposed Rulemaking (NPRM), in MB Docket No. 24-626; FCC 24-126, adopted December 11, 2024, and released December 13, 2024. The full text of this document is available by downloading the text from the Commission's website at: https://docs.fcc.gov/public/attachments/FCC-24-126A1.pdf.

Paperwork Reduction Act of 1995 Analysis: This document contains possible new or modified information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), we seek specific comment on how we might further reduce the information collection burden for small business concerns with fewer than 25 employees.

Providing Accountability Through Transparency Act: Consistent with the Providing Accountability Through Transparency Act, Public Law 118-9, see 5 U.S.C. 553(b)(4), a summary of this document will be available at https://www.fcc.gov/proposed-rulemakings.

Synopsis

I. Introduction

1. In the Notice of Proposed Rulemaking (NPRM) adopted on December 11, 2024, and released on December 13, 2024, the Commission seeks comment on proposed revisions to various broadcast radio and television regulations in parts 1, 73, 74 and 76 of the CFR. The NPRM proposes to update rules to better reflect current application processing requirements, clarify and harmonize provisions, and remove references to outdated procedures and legacy filing systems. The NPRM also proposes to clarify certain terms and procedures used in the comparative processes for mutually exclusive (MX) noncommercial educational (NCE) stations and low power FM (LPFM) stations.

II. Background

2. This NPRM continues our efforts to update broadcast radio and television rules. In the past three decades, the Media Bureau (Bureau) has transitioned from paper-filing to electronic filing, and subsequently transitioned from its initial filing database to a new one. Various rules still reference outdated terms from the Commission's paper-filing processing procedures and discontinued database, and are therefore incompatible with current electronic filing procedures. Additionally, other outdated rules are no longer necessary to ensure administrative efficiency and can result in application processing delays and confusion. This NPRM seeks to update and clarify these rules to better reflect current processing procedures, and improve how the public, applicants, and licensees engage with the Commission.

III. Discussion

A. Replace References to CDBS With References to LMS

3. We propose to amend §§ 1.5000(b), 1.5004(d)(2), 1.30001(d), 1.30004(a), 73.202(a), 73.3700(b)(5)(iv), and 76.66(d)(2)(ii) to replace references to the Bureau's Consolidated Database System (CDBS) electronic filing system with references to the Bureau's new Licensing and Management System (LMS) electronic filing system. The Bureau is in the final stage of transitioning from CDBS to LMS. We propose to amend rule sections that mention CDBS to instead refer to LMS. We seek comment on this proposal.

B. Update Form Names

4. We propose to update §§ 73.30(c), 73.45(d)(1), 73.51(c), 73.311(a), 73.512(a), 73.625(c)(4)(i), 73.872(b)(1), 73.875, 73.1670(b), 73.1690(c)(9), 73.3580(d)(2), and 73.5002(b) to update application references. The rules we propose to amend reference outdated form designations used in CDBS, such as “FCC Form 301,” and we propose to update the references to conform to current conventions used in LMS such as “FCC Form 2100, Schedule 301.” For example, FCC Form 301 would become FCC Form 2100, Schedule 301. We seek comment on this proposal and whether other Rules need to be updated to conform to LMS naming conventions.

C. Change Table of Assignments/Allotments References To Conform to Existing Language

5. We propose to update inconsistent terminology concerning references to the tables governing FM and TV allotments. Sections 1.401, 1.403, 1.420 and 73.3573 currently use inconsistent terminology to refer to the “Table of FM Allotments” and the “Table of TV Allotments.” Accordingly, we propose to change references in these sections from “FM Table of Allotments” to “Table of FM Allotments” and from “TV Table of Allotments” to “Table of TV Allotments.” In addition, we propose to change references from “FM Table of Assignments” to “Table of FM Allotments” and from “TV Table of Assignments” to “Table of TV Allotments.” These proposed changes are editorial in nature and correspond with the standard language used in §§ 73.202, 73.606 and 73.622. We seek comment on this proposal and whether other Rules should be similarly revised.

D. Eliminate § 73.503(g), the 2021 NCE FM Window Application Cap

6. We propose to eliminate language concerning a cap on the number of applications each applicant could submit in the 2021 NCE FM filing window. Section 73.503(g) (Application Limit) mandates that an NCE FM applicant may file no more than a total of 10 applications in the 2021 NCE FM filing window. This Application Limit was intended for the limited purpose of the 2021 NCE FM filing window, which has passed. Upon resolution and finality of the remaining NCE FM applications, we propose to delegate authority to the Bureau to effectuate this change and remove § 73.503(g). We seek comment on this proposal.

E. Eliminate AM Station Power Increase Restrictions

7. We propose to eliminate the requirement that AM stations seeking power increases must request at least a 20% increase in nominal power. We tentatively conclude that this change will provide AM broadcasters greater flexibility and will afford new opportunities for stations to optimize their operations, thus providing continued AM service to the public. Due to increased efficiency in administrative processing, we do not expect this change will adversely affect the processing time for other pending applications. We also propose an update to our AM rules to conform to international agreements and several minor administrative changes.

8. Section 73.3571(e)(1) and (2) sets forth requirements for AM stations proposing a power increase. The rule was adopted in 1985 when the Commission revised the AM technical rules to reflect then-newly enacted international agreements. To address concerns about the potential administrative impact from the large number of AM applications that the rule changes were expected to engender, and to reduce the number of modification applications, the Commission established a minimum threshold for power increases. Specifically, the Commission determined that any application which does not involve a change in site must propose at least a 20% increase in the AM station's nominal power.

9. We tentatively conclude that due to changed circumstances, this restriction is outdated, and propose to delete the requirement that an applicant proposing to increase the power for an AM station must propose either a site change or at least a 20% increase in the station's nominal power. Due to increased administrative efficiencies and the electronic application filing system currently in place, we tentatively find that applications proposing an increase of less than 20% power do not present the same processing burdens and do not warrant this restrictive benchmark. Accordingly, we propose to delete § 73.3571(e)(1) and (2), and seek comment on this proposal. We also seek comment on whether there is a public benefit to allowing increases of less than 20%. We also propose to delete § 73.3571(e)(3), which clarifies that Class D stations were not subject to the requirements of § 73.3571(e)(1) and (e)(2).

10. We also propose to update § 73.3571(e)(4), which outlines procedures for authorizing certain Class D daytime-only stations to operate unlimited-time. Paragraph (e)(4) was not updated when the stations were reclassified in 1991, and the current rule still reflects the old classifications. Accordingly, we propose to revise the station classes in § 73.3571(e)(4) to reflect current station classifications, including Class B and Class D designations mirroring the definitions in § 73.21(a)(2) and (a)(3), and seek comment on this proposal.

11. We propose to remove the Note to this rule section, and add it to paragraph (h)(1)(ii) of § 73.3571.

F. Post-Incentive Auction Viewer and MVPD Notification Requirements

12. We propose to update Incentive Auction rules to remove obsolete language. In 2014, the Commission adopted rules to implement the broadcast television spectrum incentive auction (Incentive Auction). The post-incentive auction transition period concluded on July 3, 2020. All full power and Class A TV stations that elected to relinquish their licenses have terminated operations and all repacked stations are now operating on their post-auction channel assignments. As such, we propose to delete § 73.3700(c) and revise §§ 73.3801(h)(4)(i), 73.6029(h)(4)(i), and 74.782(i)(4)(i).

13. Section 73.3700(c) requires repacked stations to provide notice to viewers before a station transitions to its post-auction channel and requires license relinquishment stations to provide notice to viewers before terminating operations. Because all repacked stations are now operating on their post-incentive auction channels and all license relinquishment stations have terminated operations, this notice provision is obsolete.

14. Sections 73.3801(h)(4)(i), 73.6029(h)(4)(i), and 74.782(i)(4)(i) require 120-days advance notification by Next Gen TV stations to MVPDs (Multichannel Video Programming Distributors) for ATSC 1.0 service relocations that occur during the post-incentive auction transition period and 90-days advance notice for relocations that occur after the post-incentive auction transition period. Since the post-incentive auction transition period concluded, we propose to revise these rules to remove references to the post-incentive auction transition period and the extended MVPD notice period that was only required during that time. We seek comment on each of these proposals. These proposed revisions do not alter the 90-day MVPD notice requirement that is currently in effect for Next Gen TV.

G. Update § 73.870, Processing LPFM Minor Modification Applications

15. We propose to codify in the rules the existing interpretation of § 73.870(e) that LPFM minor modification applications received on the same day will be treated as simultaneously filed. Section 73.3573 outlines the processing procedures for full service FM broadcast station applications. Generally, applications for minor modifications of FM broadcast and FM translator stations “may be filed at any time, unless restricted by the FCC, and will be processed on a `first come/first served' basis.” Section 73.3573(e)(1), which governs reserved channel FM broadcast stations, states that “[c]onflicting minor change FM applications received on the same day are treated as simultaneously filed and mutually exclusive.” With respect to non-reserved FM broadcast stations, § 73.3573(f)(1) states that “[a]ll applications received on the same day will be treated as simultaneously tendered and, if they are found to be mutually exclusive, must be resolved through settlement or technical amendment.” The same processing procedures apply to conflicting minor change FM translator applications received on the same day pursuant to § 74.1233.

16. There is no similar language in the rule for minor change LPFM applications indicating the processing standard for applications received on the same day. Section 73.870(e) simply states: “Minor change LPFM applications may be filed at any time, unless restricted by the staff, and generally, will be processed in the order in which they are tendered. Such applications must meet all technical and legal requirements applicable to new LPFM station applications.”

17. There is no indication in either the text of § 73.870(e) or in the order adopting the rule that the Commission intended to implement a different procedure for processing minor change LPFM applications than for minor change full service FM and FM translator applications.

18. Accordingly, we propose to codify in the rules the existing interpretation of § 73.870(e) that LPFM minor modification applications received on the same day will be treated as simultaneously filed. This will harmonize § 73.870(e) with the processing procedures for minor change full service FM and FM translator applications under §§ 73.3573(e)(1) and (f)(1), and 74.1233(b)(1) and (d)(1). We also propose to revise § 73.870(e) to codify the existing practice that first-come, first-served processing for LPFM minor modification applications will follow the well-established general procedures, under which applicants filing on the same day are considered simultaneously filed and, if mutually exclusive, directed to use engineering solutions and good faith negotiation to resolve their mutual exclusivity. We seek comment on our proposals.

H. Revisions to § 73.807, Minimum Distance Separation Between Stations

1. Codification of Definition of the Term “Authorized” Station

19. We propose to codify the existing interpretation of the term “authorized” station in § 73.807 as including construction permittees in addition to licensees. Under § 73.807(a)(1), to be authorized, LPFM applicants must satisfy the minimum distance separation requirements specified in the Table to paragraph (a)(1) with respect to “authorized FM stations” and “authorized LPFM stations” among other separation requirements, and must also meet the minimum separation requirements in the Table to paragraph (c) with respect to “authorized FM translator stations.”

20. Although the term “authorized” in the context of § 73.807(a)(1) and (c) is not defined in the rule or LPFM Report and Order, the Commission's long-standing interpretation of this term is that it encompasses stations having a granted license and/or a granted construction permit. We tentatively conclude to codify in § 73.807(a) and (c) the existing interpretation of the term “authorized” stations as including both licensed stations and/or granted construction permits for FM, LPFM, and FM translator stations. We seek comment on our tentative conclusion that this will provide clarity to LPFM applicants regarding minimum distance separation requirements.

2. Prior-Filed Application Protections

21. We propose to modify §§ 73.807(a)(1) and 73.807(c) to state that LPFM applicants must protect FM, LPFM, and FM translator applications submitted prior to a public notice announcing the procedures for an LPFM filing window.

22. Under § 73.807(a)(1), LPFM applicants must satisfy the minimum distance separation requirements in the Table to paragraph (a)(1) with respect to “applications for new and existing FM stations filed prior to the release of the public notice announcing an LPFM window period.” Under § 73.807(c), LPFM applicants must also satisfy the minimum distance separation requirements in the Table to paragraph (c) with respect to “cutoff FM translator applications, and FM translator applications filed prior to the release of the Public Notice announcing the LPFM window period.”

23. We propose to modify §§ 73.807(a)(1) and 73.807(c) to state that FM, LPFM and FM translator applications filed prior to the release of the Public Notice announcing the filing procedures that will apply to any upcoming LPFM application filing window must be protected under these rule sections. In recent application filing windows, the Bureau has released multiple Public Notices announcing the window including providing early announcements of upcoming window dates, in order to afford potential applicants adequate time to prepare their applications. This proposed rule change will provide that: a public notice that just announces the filing window dates will not serve to terminate protection requirements for prior-filed applications under §§ 73.807(a)(1) and 73.807(c); and only a detailed public notice setting out the procedures for the window terminates the need to protect prior-filed applications.

24. Section 73.807(c) requires that LPFM applications must meet the minimum separation requirements “. . . with respect to . . . cutoff FM translator applications . . . .” We propose to remove the reference to “cutoff FM translator applications,” because our proposed rule amendment will make clear that any FM translator application that is filed prior to the issuance of the LPFM filing window procedures public notice is entitled to protection. We seek comment on these proposals.

I. Revise the Signature Rule

25. We propose to codify the existing interpretation of the Signature Rule (§ 73.3513), applicable to all broadcast services, that “directors” of corporations may sign applications. We also propose to modify the Signature Rule to expand the definition of who may sign an application on behalf of a corporation, a partnership, and an unincorporated association, to include a “duly authorized employee.” Section 73.3513 of the Rules specifies who must sign “[a]pplications, amendments thereto, or related statements of fact required by the FCC” on behalf of various broadcast entities. According to the Signature Rule, an officer of a corporation may sign applications or amendments on a broadcast entity's behalf. For a partnership, a partner may sign applications on behalf of a partnership. For an unincorporated association, a member who is an officer may sign applications on behalf of an unincorporated association. We adhere to the Signature Rule requirements and violations of the Signature Rule are not curable. The Bureau has interpreted the Signature Rule to permit applications signed by corporate directors, rather than officers, finding that the director at issue was as capable as a subordinate corporate officer to ensure accuracy and accountability of the broadcast application. We seek comment on the Bureau's rationale regarding corporate directors and now propose to codify in the rules the existing interpretation of § 73.3513 that “directors” of corporations may sign applications.

26. Under the existing rule, a corporation cannot allow an employee, such as a general manager, to sign applications or amendments on its behalf. The existing rule, which does not permit a corporation to designate an authorized employee to sign applications or amendments, leads to numerous application dismissals of otherwise qualified applicants.

27. We propose to permit a corporation, partnership, or unincorporated association to designate a “duly authorized employee,” to sign applications or amendments on its behalf. This would harmonize the Signature Rule with similar rules used by other bureaus and offices that permit both directors and authorized employees to sign applications or amendments on behalf of the corporation. We seek comment on this proposed modification to the Signature Rule and on how to define the term “duly authorized employee.” Should we limit the types of employees that may sign, or require written delegation of authority that predates the filing of applications or amendments on behalf of the corporation, partnership, or unincorporated association? How significant is the potential for misrepresentation or abuse if duly authorized employees sign broadcast applications? Does allowing an authorized employee to sign applications provide adequate assurance that the applicant has personally reviewed the application? How would the proposed rule change benefit small corporations, partnerships, or unincorporated associations that may be unrepresented by counsel? We also seek comment on whether we should amend our rules to specify which individuals associated with a limited liability company (LLC) can sign an application. Should only “members” of an LLC be authorized to sign?

28. We also propose to revise the Signature Rule to clarify that the term “signed,” for applications submitted in LMS, includes an electronic signature that consists of the individual's typed name. We seek comment on these modifications.

J. Local Public Notice Requirement After Acceptance for Filing

29. We propose to codify the long time practice concerning when applicants for new NCE FM, NCE TV, or LPFM construction permits must give local public notice of their applications. Section 73.3580 sets out what types of applicants and licensees are required to provide local public notice, what applications trigger the requirement, the timing of the notice and the content of the notice. The rule currently provides that the Commission's release of an “acceptance public notice” of a newly filed application triggers the applicant's local public notice obligation. Section 73.3580(a)(1) defines an acceptance public notice as: “A Commission public notice announcing that an application has been accepted for filing.” Section 73.3580(c)(1) specifies that an applicant filing an application for a construction permit for a new “noncommercial educational full power television [station]; . . . noncommercial educational full-service . . . FM radio station; . . . [or] low-power FM” radio station must provide local public notice through an online notice. However, the current definition of an acceptance public notice does not take into account all of the ways that the Commission announces tentative selectees for new NCE FM, NCE TV, and LPFM construction permits. Therefore, we propose to add language to §§ 73.3580, 73.7002, 73.7003, and 73.872, to state that for NCE FM, NCE TV, and LPFM applications, a public notice, a Threshold Fair Distribution of Service Order, an NCE Comparative Points Order, an LPFM Tentative Selectee Order or Public Notice, or the equivalent can all serve as an acceptance public notice under § 73.3580, and each will trigger that applicant's local public notice obligation.

30. The Bureau routinely releases in its “Applications” public notice that singleton NCE and LPFM new station construction permit applications have been accepted for filing. However, in the context of MX NCE and LPFM new station construction permit applications, the “acceptance for filing” notice, which triggers the § 73.3580 local notice obligation, occurs via other procedural means. In an MX situation, the NCE or LPFM tentative selectee is identified and concurrently accepted for filing, the combination of which triggers the applicant's local public notice obligation. However, these MX NCE or LPFM tentative selectees do not appear in the Applications public notice but are “accepted for filing” in an omnibus, multi-application Order such as the following:

• A Threshold Fair Distribution of Service Order, issued under delegated authority, designating a tentative selectee for a full service NCE FM construction permit pursuant to section 307(b) of the Act (Section 307(b) Order).

• An NCE Comparative Points Order designating a tentative selectee pursuant to § 73.7003.

• An LPFM MX Tentative Selectee Order or Public Notice identifying tentative selectees pursuant to § 73.872.

• A Bureau decision issued under delegated authority announcing a new tentative selectee following dismissal of prior tentative selectee.

These four NCE and LPFM MX application contexts, which accept a tentative selectee for filing and thus trigger an applicant's local notice obligation, are not currently addressed by § 73.3580.

31. Accordingly, we propose to amend: § 73.7002(b) to indicate that the “acceptance for filing” of the various tentative selectee(s) in a Section 307(b) Order triggers the applicant's local public notice obligation; § 73.7003(a) to indicate that the “acceptance for filing” of the various tentative selectee(s) in an NCE Comparative Points Order triggers the applicant's local public notice obligation; and § 73.872(a) to indicate that the “acceptance for filing” of the various tentative selectee(s) in an LPFM MX Tentative Selectee Order or Public Notice, triggers the applicant's local public notice obligation. We also propose to revise § 73.3580(a)(1) to define “an acceptance public notice” as a Commission or Bureau public notice announcing that an application has been accepted for filing, or an equivalent Order accepting for filing applications from a filing window under §§ 73.7002, 73.7003 or 73.872. We seek comment on this proposal, and on any other changes to the local notice obligations.

K. Remove 90-Day STA Restriction Necessitated by Technical or Equipment Problems

32. We propose to amend § 73.1635(a)(4) to remove language providing that an initial special temporary authorization (STA) necessitated by technical or equipment problems may only be granted for 90 days with a limited number of 90-day extensions, rather than the full 180-day period permitted for STAs for other reasons. Based on previous STA submissions, the Bureau engineering staff has observed that technical or equipment malfunctions frequently take more than 90 days to resolve. Requiring an update every 90 days typically results in the licensee raising the same issues and repeating the identical request from the original STA filing, and places an extra burden on licensees and Bureau processing staff. Therefore, we propose to delete this 90-day restriction language and apply the 180-day period to STAs necessitated by technical or equipment problems, consistent with the time period we apply to other types of STAs. We also propose to correct a typo in the fourth sentence of paragraph (a)(4) by replacing “expeditions” with “expeditious.” We seek comment on this proposal.

L. Remove Obsolete Application Processing Language

33. We propose to modify our application processing rules to remove and revise references to various application processing procedures that are no longer used. The removal and revision of obsolete language will streamline our rules and eliminate the potential for confusion among the public, licensees, and practitioners, such as attorneys or engineers, that submit filings to the Commission. Prior to the adoption of electronic filing, applications were paper-filed under a two-step submission process. First, applicants “tendered for filing” applications. Second, after a preliminary review for completeness, the Bureau would then review the application for core technical and legal requirements. If the application was “accepted for filing,” the Bureau would assign the application a file number, and place the application on an “accepted for filing” public notice.

34. Under the current electronic filing system, applications are no longer physically “tendered for filing” but are now filed electronically in the Bureau's filing database, LMS. Upon filing, applications appear in the Bureau's daily “Applications” public notice. Applications that require a fee do not appear on the Bureau's daily “Applications” public notice until the fee is paid. Numerous rule sections still reference outdated terms from the Commission's legacy paper-filing processing procedures and are therefore inconsistent with current electronic filing procedures. For example, the continued use of the term “tendered” is potentially confusing to applicants, practitioners, and the public because it reflects a processing procedure that no longer exists.

35. We first propose to remove references to applications and pleadings as being “tendered” with the Commission and instead refer to applications as being “filed” with the Commission in the following rules: 73.37(c), which addresses application requirements for new AM stations; 73.3516(e), which sets forth the process for filing a petition to deny during a license renewal proceeding; 73.3526 and 73.3527, which describe required online public inspection file documents; 73.3573(f)(1), which outlines the processing of FM applications; 73.3578(a), which concerns amendments to applications; 73.3591(b), which explains the processing of applications without a hearing; and 73.3597(b)(2), which addresses the processing of transfer and assignment applications.

36. Second, we propose to amend § 73.3564, which addresses the acceptance of applications and in certain places still reflects obsolete paper-filing procedures. We propose to delete all obsolete paper-filing procedures from § 73.3564(a) and replace the term “tendered for filing” with “filed” throughout § 73.3564. We also propose to delete § 73.3564(c) references to cut-off procedures for reserved band FM NCE applications that have since been eliminated by the Commission in favor of a filing window approach.

37. Finally, we propose to remove Note 1 to § 73.3522, which addresses amendments to applications, because the Note also reflects processing procedures that have been eliminated with the implementation of electronic filing. We seek comment on these proposed revisions and additional references to outdated processing that should be updated.

M. Redesignate Renewal Application Petition To Deny Rule

38. We propose to consolidate our rules for petitions to deny under a single rule section. While § 73.3516 generally deals with applications for new broadcast facilities, paragraph (e) of § 73.3516 addresses deadlines for filing petitions to deny license renewal applications. Our general rule related to the filing of petitions to deny under Part 73 is § 73.3584. We propose to redesignate the revised § 73.3516(e) as a new paragraph to § 73.3584, which specifically addresses the procedures for filing petitions to deny against license renewal applications. We also propose to replace cross-references to current § 73.3516(e) with references to redesignated § 73.3584(f).

N. Revise the Informal Objection Rule

39. We propose to revise the informal objection rule to require that informal objections and responsive pleadings be served upon the relevant applicant or objector. We also propose to limit the type of responsive pleadings that may be filed, and impose filing deadlines for responsive pleadings that align with the limitations set for responsive pleadings to petitions to deny.

40. In processing broadcast applications, we encounter two types of pleadings that we process and treat as an informal objection: (1) a pleading intentionally filed directly as an informal objection under § 73.3587, and (2) a pleading initially submitted as a petition to deny, but is treated as an informal objection because it falls short of the procedural requirements of a petition to deny. The goal of the informal objection rule is to afford the public opportunity to submit information that the Commission should consider when evaluating whether grant of an application would serve the public interest, with fewer procedural requirements than the statutory and rule provisions covering petitions to deny. Under our current rule, informal objections are not required to be served upon the applicant. We have found that the existing rule, which does not require service of informal objections, often leads to considerable inefficiencies in the resolution of contested proceedings because of the lack of procedures. For example, because informal objections do not need to be served, Bureau staff must often forward an informal objection to an applicant and afford the applicant an opportunity to respond to the informal objection. Additionally, our current rules contain no restriction on the number or type of pleadings that can be filed in response to an informal objection, and provide no pleading deadlines, which similarly delays the resolution of contested proceedings.

41. We first propose to require that the first above-mentioned category of informal objections, those intentionally filed directly as an informal objection under § 73.3587, must be served upon the applicant. We propose that service may be by mail or email to the address listed in the “Applicant” or “Contact Representatives” sections of the contested application. Both the street address and email address are mandatory fields within the “Applicant” and “Contact Representatives” sections. Therefore, the service information is readily available to the objector. We believe that requiring service of informal objections will ensure that parties are timely informed of these filings, thereby promoting a more efficient resolution of contested proceedings. The Bureau successfully implemented a requirement for applications in the 2023 LPFM filing window that filers of both petitions to deny and informal objections were required to serve a copy of their filings on applicants. This approach expedited review without hindering public participation in the regulatory process. We seek comment on whether, in the renewal context—where listeners and viewers most frequently file informal objections—it would be beneficial to include similar language in pre-renewal public notices to inform the public about the service requirements. Should service be to the Applicant instead of a choice between the Applicant and Contact Representative? Additionally, we note that our proposal to permit electronic service aligns with the Wireless Telecommunications Bureau's electronic service requirements. We seek comment on this proposal. Specifically, what should be the consequence of not serving a filing? Should the filing be subject to dismissal? Do these proposals create any barriers for certain parties?

42. Second, we propose to limit the types of responsive pleadings that may be filed and establish pleading deadlines on responsive pleadings to ensure a prompt resolution of the contested matter. Specifically, we propose that responsive pleadings shall be limited to one opposition and one reply. In the case of an informal objection against an application for renewal of license, an opposition thereto may be filed within 30 days after the informal objection is filed. The party that filed the informal objection against the renewal application may reply to the opposition within 20 days after the opposition is due or within 20 days after the opposition is filed, whichever occurs later. For all other pleadings, we propose that an opposition is required to be filed by the applicant within 10 days after the informal objection is filed and a reply filed by the objector within five days after the opposition is due or within five days after the opposition is filed, whichever occurs later. These pleading limitations and filing deadlines align with the pleading limitations and deadlines provided for petitions to deny, and we tentatively conclude they are appropriate for informal objections in order to balance the need of administrative efficiency with the filer's need to submit information that it believes the Commission should consider when evaluating whether grant of an application would serve the public interest. Our proposal to implement pleading limitations and deadlines on responses to informal objections has been successfully used by other Bureaus, and we believe these reforms will provide greater transparency and clarity for all interested parties.

43. We seek comment on this proposal. Alternatively, we seek comment on whether we should adopt longer time frames for responsive pleadings, or whether shorter time periods are sufficient, given the additional time provided under § 1.4 of our Rules. We also propose that such responsive pleadings must be served by mail or to the email address provided in the informal objection or application, as applicable. Our proposal for service of objections and responsive pleadings aligns with the electronic service requirements of other Bureaus and offices within the Commission, including, for example, the Wireless Telecommunications Bureau which requires service of all pleadings. We seek comment on these proposals.

IV. Initial Regulatory Flexibility Act Analysis

44. As required by the Regulatory Flexibility Act of 1980, as amended (RFA), the Commission has prepared this Initial Regulatory Flexibility Analysis (IRFA) of the possible significant economic impact on a substantial number of small entities by the policies and rules proposed in the Notice of Proposed Rulemaking (NPRM). Written public comments are requested on this IRFA. Comments must be identified as responses to the IRFA and must be filed by the deadlines for comments in the NPRM. The Commission will send a copy of the NPRM, including this IRFA, to the Chief Counsel for Advocacy of the Small Business Administration (SBA). In addition, the NPRM and IRFA (or summaries thereof) will be published in the Federal Register.

A. Need for, and Objectives of, the Proposed Rules

45. In the NPRM, the Commission initiates this rulemaking proceeding to obtain comments from small and other entities regarding its proposal to update several of its rules to better reflect current application processing requirements, clarify and harmonize provisions, and remove references to outdated procedures and legacy filing systems. In the past three decades, the Bureau has transitioned from paper-filing to electronic filing, and has subsequently transitioned from its initial filing database to a new one. As a result, numerous rule sections still reference outdated terms from the Commission's legacy paper-filing processing procedures and discontinued databases, and are therefore incompatible with current electronic filing procedures.

46. Specifically, the Commission seeks comment on the following proposed rule changes: (1) replacing references to the Bureau's legacy Consolidated Database System (CDBS) electronic filing system with references to the new Licensing and Management System (LMS) electronic filing system and conforming the rules to the current LMS designation for applications; (2) changing the table of assignments/allotments references to conform to existing language; (3) delegating authority to the Bureau to remove a ten application cap rule adopted for the 2021 noncommercial educational (NCE) FM new station filing window, upon finality of the remaining NCE FM applications; (4) updating the AM station power increase rules to eliminate the requirement that stations request at least a 20% increase in nominal power and to reflect current station classifications and other administrative updates; (5) updating Incentive Auction rules to remove the obsolete post-incentive auction transition period language; (6) codifying and harmonizing the processing procedures for minor change low power FM (LPFM) applications with the current processing procedures for minor change full-service FM and FM translator applications; (7) defining the term “authorized stations” and codifying which applications an LPFM applicant must protect for purposes of the minimum distance separation requirements; (8) modifying the signature rule to expand the definition of who may sign a certification to include a “duly authorized employee”; (9) codifying the current practice when applicants for new NCE FM, NCE TV, or LPFM construction permits must give local public notice of their applications; (10) removing language providing that an initial special temporary authorization (STA) necessitated by technical or equipment problems may only be granted for 90 days with a limited number of 90-day extensions, rather than the full 180-day period permitted for other reasons; (11) modifying the application processing rules to remove and revise references to various application processing procedures that are now obsolete; (12) consolidating the rules for petitions to deny under a single rule section; and (13) revising the informal objection rule to require service upon the relevant applicant and objector, limit the number of responsive pleadings, and impose filing deadlines.

B. Legal Basis

47. The proposed action is authorized pursuant to §§ 1, 4, 7, 301, 302, 303, 307, 308, 309, 310, 316, 319, 324, and 336 of the Communications Act, 47 U.S.C. 151, 154, 157, 301, 302, 303, 307, 308, 309, 310, 316, 319, 324, and 336.

C. Description and Estimate of the Number of Small Entities to Which the Proposed Rules Will Apply

48. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one which: (1) is independently owned and operated; (2) is not dominant in its field of operation; and (3) satisfies any additional criteria established by the SBA. The rules proposed herein will directly affect small television and radio broadcast stations. Below, we provide a description of these small entities, as well as an estimate of the number of such small entities, where feasible.

49. Radio Stations. This industry is comprised of “establishments primarily engaged in broadcasting aural programs by radio to the public.” Programming may originate in their own studio, from an affiliated network, or from external sources. The SBA small business size standard for this industry classifies firms having $47 million or less in annual receipts as small. U.S. Census Bureau data for 2017 show that 2,963 firms operated in this industry during that year. Of this number, 1,879 firms operated with revenue of less than $25 million per year. Based on this data and the SBA's small business size standard, we estimate a majority of such entities are small entities.

50. The Commission estimates that as of September 30, 2024, there were 4,400 licensed commercial AM radio stations and 6,618 licensed commercial FM radio stations, for a combined total of 11,018 commercial radio stations. Of this total, 11,017 stations (or 99.99%) had revenues of $47 million or less in 2023, according to Commission staff review of the BIA Kelsey Inc. Media Access Pro Database (BIA) on October 15, 2024, and therefore these licensees qualify as small entities under the SBA definition. In addition, the Commission estimates that as of September 30, 2024, there were 4,377 licensed noncommercial (NCE) FM radio stations, 1,967 low power FM (LPFM) stations, and 8,894 FM translators and boosters. The Commission however does not compile, and otherwise does not have access to financial information for these radio stations that would permit it to determine how many of these stations qualify as small entities under the SBA small business size standard. Nevertheless, given the SBA's large annual receipts threshold for this industry and the nature of radio station licensees, we presume that all of these entities qualify as small entities under the above SBA small business size standard.

51. We note, however, that in assessing whether a business concern qualifies as “small” under the above definition, business (control) affiliations must be included. Our estimate, therefore, likely overstates the number of small entities that might be affected by our action, because the revenue figure on which it is based does not include or aggregate revenues from affiliated companies. In addition, another element of the definition of “small business” requires that an entity not be dominant in its field of operation. We are unable at this time to define or quantify the criteria that would establish whether a specific radio or television broadcast station is dominant in its field of operation. Accordingly, the estimate of small businesses to which the rules may apply does not exclude any radio or television station from the definition of a small business on this basis and is therefore possibly over-inclusive. An additional element of the definition of “small business” is that the entity must be independently owned and operated. Because it is difficult to assess these criteria in the context of media entities, the estimate of small businesses to which the rules may apply does not exclude any radio or television station from the definition of a small business on this basis and similarly may be over-inclusive.

52. Television Broadcasting. This industry is comprised of “establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA small business size standard for this industry classifies businesses having $47 million or less in annual receipts as small. 2017 U.S. Census Bureau data indicate that 744 firms in this industry operated for the entire year. Of that number, 657 firms had revenue of less than $25 million per year. Based on this data we estimate that the majority of television broadcasters are small entities under the SBA small business size standard.

53. As of September 30, 2024, there were 1,384 licensed commercial television stations. Of this total, 1,307 stations (or 94.4%) had revenues of $47 million or less in 2023, according to Commission staff review of the BIA Kelsey Inc. Media Access Pro Television Database (BIA) on October 15, 2024, and therefore these licensees qualify as small entities under the SBA definition. In addition, the Commission estimates as of September 30, 2024, there were 382 licensed noncommercial educational (NCE) television stations, 379 Class A TV stations, 1,812 LPTV stations and 3,092 TV translator stations. The Commission, however, does not compile and otherwise does not have access to financial information for these television broadcast stations that would permit it to determine how many of these stations qualify as small entities under the SBA small business size standard. Nevertheless, given the SBA's large annual receipts threshold for this industry and the nature of these television station licensees, we presume that all of these entities qualify as small entities under the above SBA small business size standard.

D. Description of Projected Reporting, Recordkeeping, and Other Compliance Requirements for Small Entities

54. The NPRM proposes to amend existing rules to better reflect current application processing requirements, clarify and harmonize provisions, and remove references to outdated procedures and legacy filing systems. Some of these rule changes may require new or modified reporting, recordkeeping, or compliance obligations for small and other broadcasters, as detailed below.

55. The proposed rules will eliminate the requirement that an AM station requesting to increase power must propose at least a 20% increase in the station's nominal power. This change will provide small, AM broadcasters greater flexibility and allow for new opportunities for stations to optimize their operations. The NPRM also proposes to codify the processing procedures for LPFM minor modification applications, thereby creating consistency in the language in the rules on how these modifications are processed across different FM classes. The proposed rules also revise the minimum distance separation requirements for new and modified LPFM applications to explain which applications must be protected, define “authorized station,” and clarify that a public notice that just announces the filing window dates will not serve to terminate protection requirements for prior-filed applications. The NPRM further defines the acceptance public notice, which triggers the local public notice obligations for applicants for new NCE FM, NCE TV, or LPFM construction permits, many of whom are small entities. The proposed rules also removes language providing that an initial STA required by technical or equipment problems may only be granted for 90 days with a limited number of 90-day extensions, rather than the full 180-day period, which would ease the regulatory burden on small entities.

56. In addition, the NPRM proposes to expand the definition of who may sign a certification beyond an officer of the corporation, a partner in the partnership, or a member who is an officer of the unincorporated association, to include a “duly authorized employee,” similar to rules used by other bureaus and offices that allow for directors and authorized employees to sign applications and amendments for the organization. The rules also propose to revise the informal objection rule, requiring that informal objections be served upon the applicant as well as limiting the number of pleadings that may be filed in response to an informal objection to one objection and one reply. The proposed service requirement would result in a small paperwork obligation for small and other entities. The minimal burden would be offset by the benefit of promoting a more efficient resolution of contested proceedings. In the case of an informal objection against an application for renewal of license, an opposition must be filed within 30 days after the informal objection is filed, and replies would be due within 20 days after the opposition is due or within 20 days after the opposition is filed, whichever occurs later. For all other pleadings, the NPRM proposes that an opposition must be filed by the applicant within 10 days after the informal objection is filed and a reply filed by the objector within five days after the opposition is due or within five days after the opposition is filed, whichever occurs later.

57. We believe these revisions will make the rules more transparent and accessible to small entities and thus reduce the need for professional services such as expert engineering or legal assistance with compliance and reporting requirements. We anticipate the information we receive in comments, including where requested, cost and benefit analyses, will help the Commission identify and evaluate relevant compliance issues impacting small entities, including costs to hire professionals to comply with these rules, and other burdens that may result from the proposed revisions in the NPRM.

E. Steps Taken To Minimize the Significant Economic Impact on Small Entities, and Significant Alternatives Considered

58. The RFA requires an agency to describe any alternatives that could minimize impacts to small entities that it has considered in reaching its proposed approach, which may include the following four alternatives (among others): “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

59. In the NPRM, the Commission considered alternatives such as retaining the existing rules, while amending other related rules to further improve the accuracy of the Code of Federal Regulations, many of which may minimize the impact of the regulations on small broadcasters. For example, in proposing to revise the signature rule, we considered whether to permit a “duly authorized employee” to sign for the corporation, partnership or unincorporated association, or, in the alternative, to maintain our current rules requiring officers, partners, or members who are officers to sign, which often results in application dismissals. We also considered whether we should limit this to specific employees, and how this decision, if adopted, might impact small broadcasters that may not be represented by counsel. In considering the proposed revisions to the informal objection rule, we seek comment on whether we should adopt longer times to respond to pleadings than proposed, which may provide flexibility for small entities.

60. The Commission seeks comment on whether any of the burdens associated the filing, recordkeeping and reporting requirements described in the NPRM can be minimized for small entities. The Commission is open to considering alternatives to the rules proposed in the NPRM, including but not limited to alternatives that will minimize significant economic burdens on small and other broadcasters.

F. Federal Rules That May Duplicate, Overlap, or Conflict With the Proposed Rule

61. None.

V. Ordering Clauses

62. Accordingly, it is ordered that, pursuant to the authority found in sections 1, 4, 7, 301, 302, 303, 307, 308, 309, 310, 316, 319, 324, and 336 of the Communications Act of 1934, as amended, 47 U.S.C. 151, 154, 157, 301, 302, 303, 307, 308, 309, 310, 316, 319, 324, and 336 this Notice of Proposed Rulemaking is adopted.

63. It is further ordered that the Commission's Office of the Secretary shall send a copy of this Notice of Proposed Rulemaking, including the Initial Regulatory Flexibility Act Analysis, to the Chief Counsel for Advocacy of the Small Business Administration.

List of Subjects

47 CFR Part 1

Administrative Practice and Procedure, Radio, Reporting and recordkeeping requirements, Television.

47 CFR Parts 73 and 74

Communications equipment, Radio, Reporting and recordkeeping requirements, Television.

47 CFR Part 76

Television.

Federal Communications Commission.
Marlene Dortch,
Secretary.

Proposed Rules

For the reasons discussed in the preamble, the Federal Communications Commission proposes to amend 47 CFR parts 1, 73, 74, and 76 as follows:

PART 1—PRACTICE AND PROCEDURE

1. The authority citation for part 1 continues to read as follows:

Authority: 47 U.S.C. chs. 2, 5, 9, 13; 28 U.S.C. 2461 note; 47 U.S.C. 1754, unless otherwise noted.

2. Amend § 1.401 by revising paragraph (d) to read as follows:

§ 1.401 Petitions for rulemaking.

* * * * *

(d) Petitions for amendment of the Table of FM Allotments (§ 73.202 of this chapter) or the Table of TV Allotments (§ 73.606) shall be served by petitioner on any Commission licensee or permittee whose channel assignment would be changed by grant of the petition. The petition shall be accompanied by a certificate of service on such licensees or permittees. Petitions to amend the Table of FM Allotments must be accompanied by the appropriate construction permit application and payment of the appropriate application filing fee.

* * * * *

3. Revise § 1.403 to read as follows:

§ 1.403 Notice and availability.

All petitions for rulemaking (other than petitions to amend the Table of FM Allotments, Table of TV Allotments, and Air-Ground Table of Assignments) meeting the requirements of § 1.401 will be given a file number and, promptly thereafter, a “Public Notice” will be issued (by means of a Commission release entitled “Petitions for Rule Making Filed”) as to the petition, file number, nature of the proposal, and date of filing. Petitions for rulemaking are available through the Commission's Reference Information Center at the FCC's main office, and electronically at https://www.fcc.gov.

4. Amend § 1.420 by:

a. Revising the section heading, and paragraphs (a), and (b);

b. Redesignating the Note to paragraph (g) as Note 1 to paragraph (g);

c. Redesignating Note 1 to paragraph (h) as Note 2 to paragraph (h);

d. Revising paragraph (j) introductory text, and the note at the end of the section.

The revisions read as follows:

§ 1.420 Additional procedures in proceedings for amendment of the Table of FM Allotments, the Table of TV Allotments, or for amendment of certain FM assignments.

(a) Comments filed in proceedings for amendment of the Table of FM Allotments (§ 73.202 of this chapter) or the Table of TV Allotments (§ 73.622(j) of this chapter) which are initiated on a petition for rule making shall be served on petitioner by the person who files the comments.

(b) Reply comments filed in proceedings for amendment of the Table of FM Allotments or the Table of TV Allotments shall be served on the person(s) who filed the comments to which the reply is directed.

* * * * *

(j) Whenever an expression of interest in applying for, constructing, and operating a station has been filed in a proceeding to amend the Table of FM Allotments or the Table of TV Allotments, and the filing party seeks to dismiss or withdraw the expression of interest, either unilaterally or in exchange for financial consideration, that party must file with the Commission a request for approval of the dismissal or withdrawal, a copy of any written agreement related to the dismissal or withdrawal, and an affidavit setting forth:

* * * * *

Note 3 to § 1.420: The reclassification of a Class C station in accordance with the procedure set forth in Note 4 to § 73.3573 may be initiated through the filing of an original petition for amendment of the Table of FM Allotments. The Commission will notify the affected Class C station licensee of the proposed reclassification by issuing a notice of proposed rulemaking, except that where a triggering petition proposes an amendment or amendments to the Table of FM Allotments in addition to the proposed reclassification, the Commission will issue an order to show cause as set forth in Note 4 to § 73.3573, and a notice of proposed rule making will be issued only after the reclassification issue is resolved. Triggering petitions will be dismissed upon the filing, rather than the grant, of an acceptable construction permit application to increase antenna height to at least 451 meters HAAT by a subject Class C station.

5. Amend § 1.5000 by revising the third sentence of paragraph (b) to read as follows:

§ 1.5000 Citizenship and filing requirements under section 310(b) of the Communications Act of 1934, as amended.

* * * * *

(b) * * * Petitions for declaratory ruling required by paragraph (a) of this section involving broadcast stations only shall be filed electronically on the internet through the Media Bureau's Licensing and Management System (LMS) or any successor system thereto when submitted to the Commission as part of an application for a construction permit, assignment, or transfer of control of a broadcast license; if there is no associated construction permit, assignment or transfer of control application, petitions for declaratory ruling should be filed with the Office of the Secretary via the Commission's Electronic Comment Filing System (ECFS).

* * * * *

6. Amend § 1.5004 by revising the third sentence of paragraph (d)(2) to read as follows:

§ 1.5004 Routine terms and conditions.

* * * * *

(d) * * *

(2) * * * The letter must also reference the licensee's foreign ownership ruling(s) by ICFS File No. and FCC Record citation, if available; or, if a broadcast licensee, the letter must reference the licensee's foreign ownership ruling(s) by LMS File No., Docket No., call sign(s), facility identification number(s), and FCC Record citation, if available. * * *

* * * * *

7. Amend § 1.30001 by revising paragraph (d) to read as follows:

§ 1.30001 Definitions.

* * * * *

(d) Distance from the AM station. The distance shall be calculated from the tower coordinates in the case of a nondirectional AM station, or from the array center coordinates given in LMS or any successor database for a directional AM station.

8. Amend § 1.30004 by revising the second sentence of paragraph (a) to read as follows:

§ 1.30004 Notice of tower construction or modification near AM stations.

(a) * * * Notice shall be provided to any AM station that is licensed or operating under Program Test Authority using the official licensee information and address listed in LMS or any successor database. * * *

* * * * *

PART 73—RADIO BROADCAST SERVICES

9. The authority citation for part 73 continues to read as follows:

Authority: 47 U.S.C. 154, 155, 301, 303, 307, 309, 310, 334, 336, 339.

10. Amend § 73.30 by revising paragraph (c) and redesignating notes 1 through 5 as notes 1 through 5 to § 73.30.

The revision reads as follows:

§ 73.30 Petition for authorization of an allotment in the 1605-1705 kHz band.

* * * * *

(c) If awarded an allotment, a petitioner will have sixty (60) days from the date of public notice of selection to file an application for construction permit on FCC Form 2100, Schedule 301. (See §§ 73.24 and 73.37(e) for filing requirements). Unless instructed by the Commission to do otherwise, the application shall specify Model I facilities. (See § 73.14). Upon grant of the application and subsequent construction of the authorized facility, the applicant must file a license application on FCC Form 2100, Schedule 302.

* * * * *

11. Amend § 73.37 by revising paragraph (c) to read as follows:

§ 73.37 Applications for broadcast facilities, showing required.

* * * * *

(c) If otherwise consistent with the public interest, an application requesting an increase in the daytime power of an existing Class C station on a local channel from 250 watts to a maximum of 1kW, or from 100 watts to a maximum of 500 watts, may be granted notwithstanding overlap prohibited by paragraph (a) of this section. In the case of a 100 watt Class C station increasing daytime power, the provisions of this paragraph shall not be construed to permit an increase in power to more than 500 watts, if prohibited overlap would be involved, even if successive applications should be filed.

* * * * *

12. Amend § 73.45 by revising paragraph (d)(1) to read as follows:

§ 73.45 AM antenna systems.

* * * * *

(d) * * *

(1) Whenever the measurements show that the antenna or common point resistance differs from that shown on the station authorization by more than 2%, FCC Form 2100, Schedule 302 must be filed with the information and measurement data specified in § 73.54(d).

* * * * *

13. Amend § 73.51 by revising paragraph (c) introductory text to read as follows:

§ 73.51 Determining operating power.

* * * * *

(c) Applications for authority to operate with antenna input power which is less than nominal power and/or to employ a dissipative network in the antenna system shall be made on FCC Form 2100, Schedule 302. The technical information supplied on section II-A of this form shall be that applying to the proposed conditions of operation. In addition, the following information shall be furnished, as pertinent:

* * * * *

14. Amend § 73.202 by revising the third sentence of paragraph (a) introductory text to read as follows:

§ 73.202 Table of Allotments.

(a) * * * Channels to which licensed, permitted, and “reserved” facilities have been assigned are reflected in the Media Bureau's publicly available Licensing and Management System.

* * * * *

15. Amend § 73.311 by revising paragraph (a) to read as follows:

§ 73.311 Field strength contours.

(a) Applications for FM broadcast authorizations must show the field strength contours required by FCC Form 2100, Schedule 301 or 340, as appropriate.

* * * * *

16. Amend § 73.512 by revising paragraph (a) introductory text to read as follows:

§ 73.512 Special procedures applicable to Class D noncommercial educational stations.

(a) All Class D stations seeking renewal of license for any term expiring June 1, 1980, or thereafter shall comply with the requirements set forth below and shall simultaneously file an application on FCC Form 2100, Schedule 340, containing full information regarding such compliance with the provisions set forth in paragraphs (a)(1) through (3) of this section.

* * * * *

17. Amend § 73.625 by revising the second sentence of paragraph (c)(4)(i) to read as follows:

§ 73.625 TV antenna system.

* * * * *

(c) * * *

(4) * * *

(i) * * * A formal application (FCC Form 2100, Schedule 301, or FCC Form 2100, Schedule 340 for a noncommercial educational station) will be required if the proposal involves substantial change in the physical height or radiation characteristics of the AM broadcast antennas; otherwise an informal application will be acceptable.

* * * * *

18. Amend § 73.807 by:

a. Revising paragraph (a)(1) introductory text and designating the table as Table 1 to paragraph (a)(1);

b. Designating the table in paragraph (b) as Table 2 to paragraph (b);

c. Revising (c) introductory text and designating the table as Table 3 to paragraph (c); and

d. Designating the table in paragraph (g)(1) as Table 4 to paragraph (g)(1) and the table in paragraph (g)(2) as Table 5 to paragraph (g)(2).

The revisions read as follows:

§ 73.807 Minimum distance separation between stations.

* * * * *

(a) * * *

(1) An LPFM station will not be authorized initially unless the minimum distance separations in the following table are met with respect to authorized FM stations, applications for new and existing FM stations filed prior to the release of the public notice announcing the filing procedures for the LPFM window period, authorized LPFM stations, LPFM station applications that were timely-filed within a previous window, and vacant FM allotments. The term authorized [FM or LPFM] station means the FM or LPFM station currently holds a granted construction permit and/or a granted license. LPFM modification applications must either meet the distance separations in the following table or, if short-spaced, not lessen the spacing to subsequently authorized stations.

* * * * *

(c) In addition to meeting the separations specified in paragraphs (a) and (b) of this section, LPFM applications must meet the minimum separation requirements in the following table with respect to authorized FM translator stations, and FM translator applications filed prior to the release of the Public Notice announcing the filing procedures for the LPFM window period. The term authorized FM translator station means the FM translator station currently holds a granted construction permit and/or a granted license.

* * * * *

19. Amend § 73.870 by revising paragraph (e) to read as follows:

§ 73.870 Processing of LPFM broadcast station applications.

* * * * *

(e) Minor change LPFM applications must meet all technical and legal requirements applicable to new LPFM station applications. Such applications may be filed at any time, unless restricted by the staff, and generally, will be processed on a “first come/first served” basis, with the first acceptable application cutting off the filing rights of subsequent, competing applicants. The FCC will periodically release a Public Notice listing those applications accepted for filing. Applications received on the same day will be treated as simultaneously filed and, if they are found to be mutually exclusive, must be resolved through settlement or technical amendment. Conflicting applications received after the filing of the first acceptable application will be grouped, according to filing date, behind the lead application in the queue. The priority rights of the lead applicant, against all other applicants, are determined by the date of filing, but the filing date for subsequent conflicting applicants only reserves a place in the queue. The right of an applicant in a queue ripens only upon a final determination that the lead applicant is unacceptable and that the queue member is reached and found acceptable. The queue will remain behind the lead applicant until the construction permit is finally granted, at which time the queue dissolves.

* * * * *

20. Amend § 73.872 by revising paragraphs (a) and (b)(1) to read as follows:

§ 73.872 Selection procedure for mutually exclusive LPFM applications.

(a) Following the close of each window for new LPFM stations and for modifications in the facilities of authorized LPFM stations, the Commission will issue a public notice identifying all groups of mutually exclusive applications. Such applications will be awarded points to determine the tentative selectee. Unless resolved by settlement pursuant to paragraph (e) of this section, the tentative selectee will be the applicant within each group with the highest point total under the procedure set forth in this section, except as provided in paragraphs (c) and (d) of this section. Acceptance for filing of a tentative selectee's application in the LPFM Mutually Exclusive Tentative Selectee Order or Public Notice, or an equivalent Order, triggers the applicant's local public notice obligation under § 73.3580.

* * * * *

(b) * * *

(1) Established community presence. An applicant must, for a period of at least two years prior to application and at all times thereafter, have qualified as local pursuant to § 73.853(b). Applicants claiming a point for this criterion must submit any documentation specified in FCC Form 2100, Schedule 318 at the time of filing their applications.

* * * * *

21. Amend § 73.875 by revising paragraph (b) introductory text and the second sentence of paragraph (c) introductory text to read as follows:

§ 73.875 Modification of transmission systems.

* * * * *

(b) The following changes may be made only after the grant of a construction permit application on FCC Form 2100, Schedule 318.

* * * * *

(c) * * * A modification of license application (FCC Form 2100, Schedule 319) must be submitted to the Commission within 10 days of commencing program test operations pursuant to § 73.1620. * * *

* * * * *

22. Amend § 73.1020 by revising paragraph (b) to read as follows:

§ 73.1020 Station license period.

* * * * *

(b) For the deadline for filing petitions to deny renewal applications, see § 73.3584(f).

* * * * *

23. Amend § 73.1635 by revising paragraph (a)(4) to read as follows:

§ 73.1635 Special temporary authorizations (STA).

(a) * * *

(4) An STA may be granted for an initial period not to exceed 180 days. A limited number of extensions of such authorizations may be granted for additional periods not exceeding 180 days per extension. The permittee or licensee must demonstrate that any further extensions requested are necessary and that all steps to resume normal operation are being undertaken in an expeditious and timely fashion. The license of a broadcasting station that fails to transmit broadcast signals for any consecutive 12-month period expires as a matter of law at the end of that period, notwithstanding any STA or provision, term, or condition of the license to the contrary.

* * * * *

24. Amend § 73.1670 by revising paragraph (b) to read as follows:

§ 73.1670 Auxiliary transmitters.

* * * * *

(b) Authorization to install an auxiliary transmitter for use with other than the main antenna or authorized auxiliary antenna must be obtained by filing an application for a construction permit on FCC Form 2100, Schedule 301 (FCC Form 2100, Schedule 340 for noncommercial educational stations).

* * * * *

25. Amend § 73.1690 by revising the first sentence of paragraph (c)(9) to read as follows:

§ 73.1690 Modification of transmission systems.

* * * * *

(c) * * *

(9) The licensee of an AM, FM, or TV commercial station may propose to change from commercial to noncommercial educational on a modification of license application, provided that the application contains the completed Eligibility Certifications and Financial sections from FCC Form 2100, Schedule 340. * * *

* * * * *

26. Amend § 73.3513 by revising paragraph (a)(3) and adding paragraph (e) to read as follows:

§ 73.3513 Signing of applications.

(a) * * *

(3) Corporation. An officer, director, or duly authorized employee, if the applicant is a corporation.

* * * * *

(e) The Commission only accepts electronic applications. An electronic application is “signed” when there is an electronic signature. An electronic signature is the typed name of the person “signing” the application, which is then electronically transmitted via LMS.

§ 73.3516 [Amended]

27. Amend § 73.3516 by removing paragraph (e).

§ 73.3522 [Amended]

28. Amend § 73.3522 by removing the note 1:

29. Amend § 73.3526 by revising paragraphs (e)(2) and (4), redesignating paragraphs (e)(18)(1) and (2) as paragraphs (e)(18)(i) and (ii), and revising paragraphs (f)(1) and (2).

The revisions read as follows:

§ 73.3526 Online public inspection file of commercial stations.

* * * * *

(e) * * *

(2) Applications and related materials. A copy of any application filed with the FCC, together with all related material, and copies of Initial Decisions and Final Decisions in hearing cases pertaining thereto. If petitions to deny are filed against the application and have been served on the applicant, a statement that such a petition has been filed shall be maintained in the file together with the name and address of the party filing the petition. Applications shall be retained in the public inspection file until final action has been taken on the application, except that applications for a new construction permit granted pursuant to a waiver showing and applications for assignment or transfer of license granted pursuant to a waiver showing shall be retained for as long as the waiver is in effect. In addition, license renewal applications granted on a short-term basis shall be retained until final action has been taken on the license renewal application filed immediately following the shortened license term.

* * * * *

(4) Contour maps. A copy of any service contour maps, submitted with any application filed with the FCC, together with any other information in the application showing service contours and/or transmitter location (State, county, city, street address, or other identifying information). These documents shall be retained for as long as they reflect current, accurate information regarding the station.

* * * * *

(f) * * *

(1) For purposes of this section, action taken on an application filed with the FCC becomes final when that action is no longer subject to reconsideration, review, or appeal either at the FCC or in the courts.

(2) For purposes of this section, the term “all related material” includes all exhibits, letters, and other documents filed with the FCC as part of an application, report, or other document, all amendments to the application, report, or other document, copies of all documents incorporated therein by reference and not already maintained in the public inspection file, and all correspondence between the FCC and the applicant pertaining to the application, report, or other document, which according to the provisions of §§ 0.451 through 0.461 of this chapter are open for public inspection at the offices of the FCC.

30. Amend § 73.3527 by revising paragraphs (e)(2) and (3) and (f)(1) and (2) to read as follows:

§ 73.3527 Online public inspection file of noncommercial educational stations.

* * * * *

(e) * * *

(2) Applications and related materials. A copy of any application filed with the FCC, together with all related material, including supporting documentation of any points claimed in the application pursuant to § 73.7003, and copies of FCC decisions pertaining thereto. If petitions to deny are filed against the application and have been served on the applicant, a statement that such a petition has been filed shall be maintained in the file together with the name and address of the party filing the petition. Applications shall be retained in the public inspection file until final action has been taken on the application, except that applications for a new construction permit granted pursuant to a waiver showing and applications for assignment or transfer of license granted pursuant to a waiver showing shall be retained for as long as the waiver is in effect. In addition, license renewal applications granted on a short-term basis shall be retained until final action has been taken on the license renewal application filed immediately following the shortened license term.

(3) Contour maps. A copy of any service contour maps, submitted with any application filed with the FCC, together with any other information in the application showing service contours and/or transmitter location (State, county, city, street address, or other identifying information). These documents shall be retained for as long as they reflect current, accurate information regarding the station.

* * * * *

(f) * * *

(1) For purposes of this section, a decision made with respect to an application filed with the FCC becomes final when that decision is no longer subject to reconsideration, review, or appeal either at the FCC or in the courts.

(2) For purposes of this section, the term “all related material” includes all exhibits, letters, and other documents filed with the FCC as part of an application, report, or other document, all amendments to the application, report, or other document, copies of all documents incorporated therein by reference and not already maintained in the public inspection file, and all correspondence between the FCC and the applicant pertaining to the application, report, or other document, which according to the provisions of §§ 0.451 through 0.461 of this chapter are open for public inspection at the offices of the FCC.

31. Amend § 73.3564 by revising paragraphs (a)(1) and (3), (c), and (e) to read as follows:

§ 73.3564 Acceptance of applications.

(a)(1) Applications are dated upon filing in LMS. Except for applications for minor modifications of facilities in the non-reserved FM band, as defined in § 73.3573(a)(2), long form applications subject to the provisions of § 73.5005 found to be complete or substantially complete are accepted for filing and are given file numbers. In the case of minor defects as to completeness, a deficiency letter will be issued and the applicant will be required to supply the missing or corrective information. Applications that are not substantially complete will not be considered and will be returned to the applicant.

* * * * *

(3) Applications found not to meet minimum filing requirements will be returned to the applicant. Applications found to meet minimum filing requirements, but that contain deficiencies, shall be given an opportunity for corrective amendment pursuant to 73.3522. Applications found to be substantially complete and in accordance with the Commission's core legal and technical requirements will be accepted for filing. Applications with uncorrected defects remaining after the opportunity for corrective amendment will be dismissed with no further opportunity for amendment.

* * * * *

(c) At regular intervals, the FCC will issue a Public Notice listing all long form applications which have been accepted for filing. Pursuant to §§ 73.3571(h), 73.3572, and 73.3573(f), such notice shall establish a cut-off date for the filing of petitions to deny. However, no application will be accepted for filing unless certification of compliance with the local notice requirements of § 73.3580(h) has been made in the tendered application.

* * * * *

(e) Applications for minor modification of facilities may be filed at any time, unless restricted by the FCC. These applications will be processed on a “first come/first served” basis and will be treated as simultaneously filed if filed on the same day. Any applications received after the filing of a lead application will be grouped according to filing date, and placed in a queue behind the lead applicant. The FCC will periodically release a Public Notice listing those minor modification of facilities applications accepted for filing.

* * * * *

32. Amend § 73.3571 by:

a. Revising paragraph (e);

b. Adding paragraph (h)(1)(ii)(D); and

c. Removing the note to § 73.3571.

The revision and addition read as follows:

§ 73.3571 Processing of AM broadcast station applications.

* * * * *

(e) The following special procedures will be followed in authorizing Class D daytime-only stations on 940 and 1550 kHz, and Class D daytime-only stations on the 41 regional channels listed in § 73.26(a), to operate unlimited-time.

(1) Each eligible daytime-only station in the foregoing categories will receive an Order to Show Cause why its license should not be modified to specify operation during nighttime hours with the facilities it is licensed to start using at local sunrise, using the power stated in the Order to Show Cause, that the Commission finds is the highest nighttime level—not exceeding 0.5 kW—at which the station could operate without causing prohibited interference to other domestic or foreign stations, or to co-channel or adjacent channel stations for which pending applications were filed before December 1, 1987.

(2) Stations accepting such modification shall be reclassified. Those authorized in such Show Cause Orders to operate during nighttime hours with a power of 0.25 kW or more, or with a power that, although less than 0.25 kW, is sufficient to enable them to attain an equivalent RMS field strength of at least 107.5 mV/m at 1 kilometer, shall be redesignated as Class B stations if they are assigned to 940 or 1550 kHz, and as unlimited-time Class B stations if they are assigned to regional channels.

(3) Stations accepting such modification that are authorized to operate during nighttime hours at powers less than 0.25 kW, and that cannot with such powers attain an equivalent RMS field strength of less than 107.5 mV/m at 1 kilometer, shall be redesignated as Class D stations if they are assigned to 940 or 1550 kHz, and as Class D stations if they are assigned to regional channels.

(4) Applications for new stations may be filed at any time on 940 and 1550 kHz and on the regional channels. Also, stations assigned to 940 or 1550 kHz, or to the regional channels, may at any time, regardless of their classifications, apply for power increases up to the maximum generally permitted. Such applications for new or changed facilities will be granted without taking into account interference caused to Class D stations, but will be required to show interference protection to other classes of stations, including stations that were previously classified as Class D, but were later reclassified as Class B unlimited-time stations.

* * * * *

(h) * * *

(1) * * *

(ii) * * *

(D) For purposes of this paragraph (h)(1)(ii), § 73.182(k) interference standards apply when determining nighttime mutual exclusivity between applications to provide AM service that are filed in the same window. Two applications would be deemed to be mutually exclusive if either application would be subject to dismissal because it would enter into, i.e., raise, the twenty-five percent exclusion RSS nighttime limit of the other.

* * * * *

33. Amend § 73.3573 by revising paragraph (f)(1) and note 4 to read as follows:

§ 73.3573 Processing FM broadcast station applications.

* * * * *

(f) * * *

(1) Applications for minor modifications for non-reserved FM broadcast stations, as defined in paragraph (a)(2) of this section, may be filed at any time, unless restricted by the FCC, and, generally, will be processed in the order in which they are tendered. The FCC will periodically release a Public Notice listing those applications accepted for filing. Processing of these applications will be on a “first come/first serve” basis with the first acceptable application cutting off the filing rights of subsequent applicants. All applications received on the same day will be treated as simultaneously filed and, if they are found to be mutually exclusive, must be resolved through settlement or technical amendment. Applications received after the filing of a lead application will be grouped, according to filing date, behind the lead application in a queue. The priority rights of the lead applicant, as against all other applicants, are determined by the date of filing, but the filing date for subsequent applicants for that channel and community only reserves a place in the queue. The rights of an applicant in a queue ripen only upon a final determination that the lead applicant is unacceptable and if the queue member is reached and found acceptable. The queue will remain behind the lead applicant until a construction permit is finally granted, at which time the queue dissolves.

* * * * *

Note 4 to § 73.3573: A Class C station operating with antenna height above average terrain (“HAAT”) of less than 451 meters is subject to reclassification as a Class C0 station upon the filing of a triggering application for construction permit that is short-spaced to such a Class C station under § 73.207 but would be fully spaced to such a station considered as a Class C0 assignment. Triggering applications may utilize § 73.215. Triggering applications must certify that no alternative channel is available for the proposed service. Available alternative frequencies are limited to frequencies that the proposed service could use at the specified antenna location in full compliance with the distance separation requirements of § 73.207, without any other changes to the Table of FM Allotments. Copies of a triggering application and related pleadings must be served on the licensee of the affected Class C station. If the staff concludes that a triggering application is acceptable for filing, it will issue an order to show cause why the affected station should not be reclassified as a Class C0 station The order to show cause will provide the licensee 30 days to express in writing an intention to seek authority to modify the subject station's technical facilities to minimum Class C HAAT or to otherwise challenge the triggering application. If no such intention is expressed and the triggering application is not challenged, the subject station will be reclassified as a Class C0 station, and processing of the triggering application will be completed. If an intention to modify is expressed, an additional 180-day period will be provided during which the Class C station licensee must file an acceptable construction permit application to increase antenna height to at least 451 meters HAAT. Upon grant of such a construction permit application, the triggering application will be dismissed. Class C station licensees must serve on triggering applicants copies of any FAA submissions related to the application grant process. If the construction is not completed as authorized, the subject Class C station will be reclassified automatically as a Class C0 station. The reclassification procedure also may be initiated through the filing of an original petition for rulemaking to amend the Table of FM Allotments as set forth in the Note to § 1.420(g).

* * * * *

34. Amend § 73.3578 by revising paragraph (a) to read as follows:

§ 73.3578 Amendments to applications for renewal, assignment or transfer of control.

(a) Any amendments to an application for renewal of any instrument of authorization shall be considered to be a minor amendment. However, the FCC may, within 15 days after filing of any amendment, advise the applicant that the amendment is considered to be a major amendment and therefore is subject to the provisions of § 73.3580.

* * * * *

35. Amend § 73.3580 by revising paragraphs (a)(1) and (d)(2) to read as follows:

§ 73.3580 Local public notice of filing of broadcast applications.

(a) * * *

(1) Acceptance public notice. A Commission or Bureau public notice announcing that an application has been accepted for filing, or an equivalent Order accepting for filing applications from a filing window under § 73.7002, § 73.7003 or § 73.872.

* * * * *

(d) * * *

(2) Consent to an involuntary assignment or transfer or to a voluntary assignment or transfer which does not result in a change of control and which may be applied for on FCC Form 2100, Schedule 316, or any successor form released in the future, pursuant to the provisions of § 73.3540(b).

* * * * *

36. Amend § 73.3584 by revising paragraphs (a) and (c) and adding paragraph (f) to read as follows:

§ 73.3584 Procedure for filing petitions to deny.

(a) For mutually exclusive applications subject to selection by competitive bidding (non-reserved channels) or fair distribution/point system (reserved channels), petitions to deny may be filed only against the winning bidders or tentative selectee(s), and such petitions will be governed by §§ 73.5006 and 73.7004, respectively. For all other applications the following rules will govern. Except in the case of applications for new low power TV and TV translator stations, for major changes in the existing facilities of such stations, or for applications for a change in output channel tendered by displaced low power TV and TV translator stations pursuant to § 73.3572(a)(1), any party in interest may file with the Commission a Petition to Deny any application (whether as originally filed or if amended so as to require a new file number pursuant to § 73.3571(j), § 73.3572(b), § 73.3573(b), § 73.3574(b) or § 73.3578) for which local notice pursuant to § 73.3580 is required, provided such petitions are filed prior to the day such applications are granted or designated for hearing; but where the FCC issues a public notice pursuant to the provisions of § 73.3571(c), § 73.3572(c) or § 73.3573(d), establishing a “cut-off” date, such petitions must be filed by the date specified. In the case of applications for transfers and assignments of construction permits or station licenses, Petitions to Deny must be filed not later than 30 days after issuance of a public notice of the acceptance for filing of the applications. In the case of applications for renewal of license, Petitions to Deny may be filed at any time up to the deadline established in paragraph (f) of this section. Requests for extension of time to file Petitions to Deny applications for new broadcast stations or major changes in the facilities of existing stations or applications for renewal of license will not be granted unless all parties concerned, including the applicant, consent to such requests, or unless a compelling showing can be made that unusual circumstances make the filing of a timely petition impossible and the granting of an extension warranted.

* * * * *

(c) In the case of applications for new low power TV and TV translator stations, for major changes in the existing facilities of such stations, or for applications for a change in output channel tendered by displaced low power TV and TV translator stations pursuant to § 73.3572(a)(1), any party in interest may file with the FCC a Petition to Deny any application (whether as originally filed or if amended so as to require a new file number pursuant to § 73.3572(b)) for which local notice pursuant to § 73.3580 is required, provided such petitions are filed within 30 days of the FCC Public Notice proposing the application for grant (applicants may file oppositions within 15 days after the Petition to Deny is filed); but where the FCC selects a tentative permittee pursuant to Section 1.1601 et seq. of this chapter, Petitions to Deny shall be accepted only if directed against the tentative selectee and filed after issuance of and within 15 days of FCC Public Notice announcing the tentative selectee. The applicant may file an opposition within 15 days after the Petition to Deny is filed. In cases in which the minimum diversity preference provided for in § 1.1623(f)(1) of this chapter has been applied, an “objection to diversity claim” and opposition thereto, may be filed against any applicant receiving a diversity preference, within the same time period provided herein for Petitions and Oppositions. In all pleadings, allegations of fact or denials thereof shall be supported by appropriate certification. However, the FCC may announce, by the Public Notice announcing the acceptance of the last-filed mutually exclusive application, that a notice of Petition to Deny will be required to be filed no later than 30 days after issuance of the Public Notice.

* * * * *

(f) A petition to deny an application for renewal of license of an existing broadcast station will be considered as timely filed if it is filed by the end of the first day of the last full calendar month of the expiring license term.

(1) If the license renewal application is not timely filed as prescribed in § 73.3539, the deadline for filing petitions to deny thereto is the 90th day after the FCC gives public notice that it has accepted the late-filed renewal application for filing.

(2) If any deadline falls on a nonbusiness day, the cutoff shall be the close of business of the first full business day thereafter.

(3) The dates when the licenses of all broadcast and broadcast auxiliary services regularly expire are listed in §§ 73.733, 73.1020 and 74.15.

37. Revise § 73.3587 to read as follows:

§ 73.3587 Procedures for filing informal objections.

Before FCC action on any application for an instrument of authorization, any person may file informal objections to the grant in LMS. Such objections may be submitted in letter form (without extra copies), shall include an email address for receiving electronic service, and shall be signed. The objector must serve a copy of the objection upon the applicant by mail to the mailing address or electronically to the email address provided in either the Applicant or Contact Representatives sections of the application. The limitation on pleadings in response to the informal objection and time for filing such responsive pleadings provided for in § 1.45 of this chapter shall be applicable to any objections duly filed under this section, except that as to an informal objection against an application for renewal of license, an opposition thereto may be filed within 30 days after the informal objection is filed, and the party that filed the informal objection may reply to the opposition within 20 days after the opposition is due or within 20 days after the opposition is filed, whichever is longer. Responsive pleadings must be served by mail to the mailing address or electronically to the email address provided in the informal objection or application, as applicable.

38. Amend § 73.3591 by revising paragraphs (b) introductory text and (b)(2) to read as follows:

§ 73.3591 Grants without hearing.

* * * * *

(b) In making its determinations pursuant to the provisions of paragraph (a) of this section, the FCC will not consider any other application, or any application if amended so as to require a new file number, as being mutually exclusive or in conflict with the application under consideration unless such other application was substantially complete, and filed by:

* * * * *

(2) The date prescribed in § 73.3584(f) in the case of applications which are mutually exclusive with applications for renewal of license of broadcast stations; or

* * * * *

39. Amend § 73.3597 by revising paragraph (b)(2) to read as follows:

§ 73.3597 Procedures on transfer and assignment applications.

* * * * *

(b) * * *

(2) In determining whether the station has been operating on-air for one year, the FCC will calculate the period between the date of initiation of program tests (as specified in paragraph (b)(1) of this section) and the date the application for transfer or assignment is filed with the FCC.

* * * * *

40. Amend § 73.3700 by revising paragraph (b)(5)(iv) and removing and reserving paragraph (c).

The revision reads as follows:

§ 73.3700 Post-incentive auction licensing and operation.

* * * * *

(b) * * *

(5) * * *

(iv) Applications for additional time to complete construction must be filed electronically in LMS using FCC Form 337 no less than 90 days before the expiration of the construction permit.

* * * * *

41. Amend § 73.3801 by revising paragraph (h)(4)(i) to read as follows:

§ 73.3801 Full power television simulcasting during the ATSC 3.0 (Next Gen TV) transition.

* * * * *

(h) * * *

(4) * * *

(i) Next Gen TV stations must provide notice at least 90 days in advance of relocating their ATSC 1.0 signals.

* * * * *

42. Amend § 73.5002 by revising the second sentence of paragraph (b) to read as follows:

§ 73.5002 Application and certification procedures; return of mutually exclusive applications not subject to competitive bidding procedures; prohibition of collusion.

* * * * *

(b) * * * So determinations of mutual exclusivity for auction purposes can be made, applicants for non-table broadcast services must also submit the engineering data contained in the appropriate FCC application FCC Form 2100, Schedule 301, 346, or 349).

* * * * *

43. Amend § 73.6029 by revising paragraph (h)(4)(i) to read as follows:

§ 73.6029 Class A television simulcasting during the ATSC 3.0 (Next Gen TV) transition.

* * * * *

(h) * * *

(4) * * *

(i) Next Gen TV stations must provide notice at least 90 days in advance of relocating their ATSC 1.0 signals.

* * * * *

44. Amend § 73.7002 by revising paragraph (b) to read as follows:

§ 73.7002 Fair distribution of service on reserved band FM channels.

* * * * *

(b) In an analysis performed pursuant to paragraph (a) of this section, a full-service FM applicant that identifies itself as a Tribal Applicant, that proposes Tribal Coverage, and that proposes the first reserved channel NCE service owned by any Tribal Applicant at a community of license located on Tribal Lands, will be awarded a construction permit. If two or more full-service FM applicants identify themselves as Tribal Applicants and meet the above criteria, the applicant providing the most people with reserved channel NCE service to Tribal Lands will be awarded a construction permit, regardless of the magnitude of the superior service or the populations of the communities of license proposed, if different. If two or more full-service FM applicants identifying themselves as Tribal Applicants each meet the above criteria and propose identical levels of NCE aural service to Tribal Lands, only those applicants shall proceed to be considered together in a point system analysis. In an analysis performed pursuant to paragraph (a) of this section that does not include a Tribal Applicant, a full service FM applicant that will provide the first or second reserved channel noncommercial educational (NCE) aural signal received by at least 10% of the population within the station's 60dBu (1mV/m) service contours will be considered to substantially further fair distribution of service goals and to be superior to mutually exclusive applicants not proposing that level of service, provided that such service to fewer than 2,000 people will be considered insignificant. First service to 2,000 or more people will be considered superior to second service to a population of any size. If only one applicant will provide such first or second service, that applicant will be selected as a threshold matter. If more than one applicant will provide an equivalent level (first or second) of NCE aural service, the size of the population to receive such service from the mutually exclusive applicants will be compared. The applicant providing the most people with the highest level of service will be awarded a construction permit, if it will provide such service to 5,000 or more people than the next best applicant. If none of the applicants in a mutually exclusive group would substantially further fair distribution goals, all applicants will proceed to examination under a point system. If two or more applicants will provide the same level of service to an equivalent number of people (differing by less than 5,000), only those equivalent applicants will be considered together in a point system. Acceptance for filing of a tentative selectee's application in a Threshold Fair Distribution of Service Order, or an equivalent Order, triggers the applicant's local public notice obligation under § 73.3580.

* * * * *

45. Amend § 73.7003 by revising paragraph (a) to read as follows:

§ 73.7003 Point system selection procedures.

(a) If timely filed applications for reserved FM channels or reserved TV channels are determined to be mutually exclusive, applications will be processed and assessed points to determine the tentative selectee for the particular channels. The tentative selectee will be the applicant with the highest point total under the procedure set forth in this section and will be awarded the requested permit if the Commission determines that an award will serve the public interest, convenience, and necessity. Acceptance for filing of a tentative selectee's application in an NCE Comparative Points Order, or an equivalent Order, determined under this section triggers the applicant's local public notice obligation under § 73.3580.

* * * * *

PART 74—EXPERIMENTAL RADIO, AUXILIARY, SPECIAL BROADCAST AND OTHER PROGRAM DISTRIBUTIONAL SERVICES

46. The authority citation for part 74 continues to read as follows:

Authority: 47 U.S.C. 154, 302a, 303, 307, 309, 310, 325, 336 and 554.

47. Amend § 74.782 by revising paragraph (i)(4)(i) to read as follows:

§ 74.782 Low power television and TV translator simulcasting during the ATSC 3.0 (Next Gen TV) transition.

* * * * *

(i) * * *

(4) * * *

(i) Next Gen TV stations must provide notice at least 90 days in advance of relocating their ATSC 1.0 signals.

* * * * *

PART 76—MULTICHANNEL VIDEO AND CABLE TELEVISION SERVICE

48. The authority citation for part 76 continues to read as follows:

Authority: 47 U.S.C. 151, 152, 153, 154, 301, 302, 302a, 303, 303a, 307, 308, 309, 312, 315, 317, 325, 335, 338, 339, 340, 341, 503, 521, 522, 531, 532, 534, 535, 536, 537, 543, 544, 544a, 545, 548, 549, 552, 554, 556, 558, 560, 561, 562, 571, 572, 573.

49. Amend § 76.66 by revising paragraph (d)(2)(ii) to read as follows:

§ 76.66 Satellite broadcast signal carriage.

* * * * *

(d) * * *

(2) * * *

(ii) Except as provided in this paragraph (d)(2)(ii), satellite carriers shall transmit the notices required by paragraph (d)(2)(i) of this section via certified mail to the address for such television station licensee listed in the Licensing and Management System maintained by the Commission. After July 31, 2020, the written notices required by paragraphs (d)(1)(vi), (d)(2)(i), (v), and (vi), (d)(3)(iv), (d)(5)(i), (f)(3) and (4), and (h)(5) of this section shall be delivered electronically via email to the email address for carriage-related questions that the station lists in its public file in accordance with §§ 73.3526 and 73.3527 of this subchapter.

* * * * *

[FR Doc. 2025-03115 Filed 3-21-25; 8:45 am]

BILLING CODE 6712-01-P